DEPARTMENT OF TRANSPORTATION

Maritime Administration (MARAD)

Reports, Forms and Recordkeeping Requirements Agency Information Collection Activity Under OMB Review

AGENCY: Maritime Administration, DOT.

ACTION: Notice and request for comments.

SUMMARY: In compliance with the Paperwork Reduction Act of 1995 (44 U.S.C. 3501 et seq.), this notice announces that the information collection abstracted below has been forwarded to the Office of Management and Budget (OMB) for review and comment. Described below is the nature of the information collection and its expected burden. The Federal Register notice with a 60-day comment period soliciting comments on the following collection was published on October 12, 2000 [65 FR 60714]. Comments were due on or before December 11, 2000. No comments were received.

DATES: Comments must be submitted on or before January 25, 2001.

FOR FURTHER INFORMATION CONTACT: William J. Aird, Office of Ports and Domestic Shipping, Mar-830, Maritime Administration, 400 Seventh Street, SW, Room 7201, Washington, DC 20590, telephone number 202-366-1901 or fax-202-366-6988. Copies of this collection can also be obtained from that office.

SUPPLEMENTARY INFORMATION:

Maritime Administration

Title of Collection: “Port Facility Conveyance Information”.

OMB Control Number: 2133-0524.

Type of Request: Extension of a currently approved information collection.

Affected Public: Eligible port entities.

Form(s): None.

Abstract: Public Law 103-160 authorizes the Department of Transportation to convey to public entities surplus Federal property needed for the development or operation of a port facility. The information collection will allow MARAD to approve the conveyance of property and administer the port facility conveyance program. The collection is necessary for MARAD to determine whether (1) the community is committed to the redevelopment/reuse plan; (2) the redevelopment/reuse plan is viable and is in the best interest of the public; and (3) the property is being used in accordance with the terms of the conveyance and applicable statutes and regulations.

Annual Estimated Burden Hours: 1,280 hours.

Addresses: Send comments to the Office of Information and Regulatory Affairs, Office of Management and Budget, 725-17th Street, NW, Washington, DC 20503, Attention: MARAD Desk Officer.

Comments are Invited on: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology.

A comment to OMB is best assured of having its full effect if OMB receives it within 30 days of publication.

By Order of the Maritime Administrator.
Dated: December 18, 2000.
Joel C. Richard,
Secretary, Maritime Administration.

[FR Doc. 00-32850 Filed 12-22-00; 8:45 am]

BILLING CODE 4910-81-P